DEPARTMENT OF AGRICULTURE

Farm Service Agency

Information Collection; Conservation Reserve Program Hunting and Wildlife, Viewing Revenue Survey

AGENCY: Farm Service Agency, USDA.

ACTION: Notice; request for comments.

SUMMARY: In accordance with the Paperwork Reduction Act of 1995, the Farm Service Agency (FSA) is seeking comments from all interested individuals and organizations on a new information collection. A revenue survey will be used in this information collection and is designed to analyze the effect of Conservation Reserve Program (CRP) enrollment on opportunities for recreational activities, including hunting and fishing, as required by the Farm Security and Rural Investment Act of 2002, Pub. L. 107-171.

DATES: Comments on this notice must be received on or before April 10, 2006 to be assured consideration. Comments received after that date will be considered to the extent practicable.

ADDRESSES: Comments should be addressed to Farm Service Agency, USDA, Attn: Skip Hyberg, Agricultural Economist, USDA/FSA/EPAS, STOP-0519, 1400 Independence Avenue, SW., Washington, DC 20250. Comments also may be submitted by e-mail to: Skip.Hyberg@wdc.usda.gov . The comments should be also sent to the Desk Officer for Agriculture, Office of Information and Regulatory Affairs, Office of Management and Budget, Washington, DC 20503. Comments should include the OMB number and title of the information collection.

FOR FURTHER INFORMATION CONTACT: Skip Hyberg, Agricultural Economist, (202) 720-9222 and Skip.Hyberg@wdc.usda.gov.

SUPPLEMENTARY INFORMATION:

Description of Information Collection

Title: Conservation Reserve Program Reserve Program, Hunting and Wildlife, Viewing Revenue Survey.

OMB Number: 0560-NEW.

Type of Request: NEW.

Abstract: The survey is needed to find out how CRP participants are providing recreational activities on their lands, how such activities affects the CRP program and what revenues are generated by such activities. FSA, on behalf of the Commodity Credit Corporation, provides services to landowners under the CRP to help them conserve and improve soil, water and wildlife resources on their lands. Some landowners have used their lands, enrolled in the CRP, to provide recreational activities (hunting, fishing, hiking, viewing and other activities) to outdoor recreationists.

Respondents: Landowners with land enrolled in the CRP.

Estimated Annual Number of Respondents: 4000.

Estimated Annual Number of Forms per person: 1.

Estimated Average Time to Respond: 5 minutes.

Estimated Total Annual Burden Hours: 333.

Comments are invited regarding (1) Whether the collection of information is necessary for the proper performance of the functions of the agency, including whether the information will have practical utility; (2) the accuracy of the agency's estimate of burden, including the validity of the methodology and assumption used: (3) ways to enhance the quality, utility and clarity of the information to be collected; and (4) ways to minimize the burden of the collection of information on those who are to respond, including through the use of appropriate automated, electronic, mechanical, or other technological collection techniques or other forms of information technology.

All comments received in response to this notice, including names and addresses when provided, will be a matter of public record. Comments will be summarized and included in the submission for OMB approval.

Signed in Washington, DC, on February 2, 2006.
Teresa C. Lasseter,
Administrator, Farm Service Agency.

[FR Doc. E6-1646 Filed 2-7-06; 8:45 am]

BILLING CODE 3410-05-P